DEPARTMENT OF AGRICULTURE

Office of the Under Secretary, Research, Education, and Economics; Notice of the Advisory Committee on Biotechnology and 21st Century Agriculture Meeting

AGENCY: Agricultural Research Service, USDA.

ACTION: Notice of public meeting.

SUMMARY: Pursuant to the Federal Advisory Committee Act, 5 U.S.C. App. 2, the United States Department of Agriculture (USDA) announces a meeting of the Advisory Committee on Biotechnology and 21st Century Agriculture (AC21). The committee is being convened to update committee members on USDA activities to support coexistence among different agricultural production systems, consistent with AC21 recommendations contained in the committee's previous report; and to discuss a new task related to coexistence for committee deliberations and develop a plan for addressing it.

DATES: The meeting will be held on Monday-Tuesday, December 14-15, 2015, 8:30 a.m. to 5:00 p.m. each day. This meeting is open to the public. On December 14, 2015, if time permits, reasonable provision will be made for oral presentations of no more than five minutes each in duration, starting at 3:30 p.m. Members of the public who wish to make oral statements should also inform Dr. Michael Schechtman in writing or via email at the indicated addresses below at least three business days before the meeting.

ADDRESSES: U.S. Access Board Conference Room, 1331 F Street NW., Suite 800, Washington, DC 20004-1111.

FOR FURTHER INFORMATION CONTACT: General information about the committee can also be found at: http://www.usda.gov/wps/portal/usda/usdahome?navid=BIOTECH_AC21&navtype=RT&parentnav=BIOTECH. However, Dr. Michael Schechtman, Designated Federal Official, Office of the Deputy Secretary, USDA, Jamie L. Whitten Building, Room 202B, 1400 Independence Avenue SW., Washington, DC 20250; Telephone (202) 720-3817; Fax (202) 690-4265; Email AC21@ars.usda.gov may be contacted for specific questions about the committee or this meeting.

SUPPLEMENTARY INFORMATION: The AC21 has been established to provide information and advice to the Secretary of Agriculture on the broad array of issues related to the expanding dimensions and importance of agricultural biotechnology. The committee is charged with examining the long-term impacts of biotechnology on the U.S. food and agriculture system and USDA, and providing guidance to USDA on pressing individual issues, identified by the Office of the Secretary, related to the application of biotechnology in agriculture. In recent years, the work of the AC21 has centered on the issue of coexistence among different types of agricultural production systems. The AC21 consists of members representing the biotechnology industry, the organic food industry, farming communities, the seed industry, food manufacturers, state government, consumer and community development groups, as well as academic researchers and a medical doctor. In addition, representatives from the Department of Commerce, the Department of Health and Human Services, the Department of State, the Environmental Protection Agency, the Council on Environmental Quality, and the Office of the United States Trade Representative may serve as “ex officio” members. The objectives for the meeting are:

• To review the AC21 purpose, history, and operational process, and member responsibilities;

• To update committee members on regulatory developments and initiatives on biotechnology-derived agricultural products;

• To update committee members on USDA activities to support coexistence consistent with AC21 recommendations contained in the committee's previous report; and

• To outline the new task for committee deliberations and develop a plan for addressing it.

Background information regarding the work and membership of the AC21 is available on the USDA Web site at: http://www.usda.gov/wps/portal/usda/usdahome?contentid=AC21Main.xml&contentidonly=true.

Register for the Meeting: The public is asked to pre-register for the meeting at least 10 business days prior to the meeting. Your pre-registration must state: the names of each person in your group; organization or interest represented; the number of people planning to give oral comments, if any; and whether anyone in your group requires special accommodations. Submit registrations to Ms. Dianne Fowler at (202) 720-4074 or by email at Dianne.fowler@ars.usda.gov by December 4, 2015. The Agricultural Research Service will also accept walk-in registrations. Members of the public who request to give oral comments to the Committee, must arrive by 8:45 a.m. on December 14, 2015 and will be given their allotted time limit and turn at the check-in table.

Public Comments: Written public comments may be mailed to Dr. Michael Schechtman, Designated Federal Official, Office of the Deputy Secretary, USDA, Jamie L. Whitten Building, Room 202B, 1400 Independence Avenue SW., Washington, DC 20250; via fax to (202) 690-4265 or email to AC21@ars.usda.gov. All written comments must arrive by December 10, 2015. Oral comments are also accepted. To request to give oral comments, see instructions under `Register for the Meeting' above.

Availability of Materials for the Meeting: All written public comments will be compiled into a binder and available for review at the meeting. Duplicate comments from multiple individuals will appear as one comment, with a notation that multiple copies of the comment were received. Please visit the Web site listed above to learn more about the agenda for or reports resulting from this meeting.

Meeting Accommodations: USDA is committed to ensuring that all employees are included in our work environment, programs, and events. If you are a person with a disability and request reasonable accommodations to participate in this meeting, please note the request in your registration. All reasonable accommodation requests are managed on a case by case basis.

Issued at Washington, DC, this 13th day of November 2015.
Catherine E. Woteki,
Under Secretary, Research, Education, and Economics.

[FR Doc. 2015-29540 Filed 11-18-15; 8:45 am]

BILLING CODE 3410-03-P